Title 3—

The President

Proclamation 9153 of August 25, 2014

Women's Equality Day, 2014

By the President of the United States of America

A Proclamation

On August 26, 1920, the 19th Amendment was certified, securing for women the fundamental right to vote. The product of decades spent organizing, protesting, and agitating, it was a turning point on the long march toward equality for all, and it inspired generations of courageous women who took up this unfinished struggle in their own time. On the anniversary of this civil rights milestone, we honor the character and perseverance of America's women and all those who work to make the same rights and opportunities possible for our daughters and sons.

When women are given the opportunity to succeed, they do. Younger women graduate college at higher rates than men and are more likely to hold a graduate school degree. They are nearly half our workforce, and increasingly they are the primary breadwinner for families. But too often, the women and girls who lift up our Nation achieve extraordinary success only after overcoming the legacy of unequal treatment.

My Administration is committed to tearing down the barriers—wherever they exist—that deny women equal opportunity. We prohibited gender discrimination in our health care system, made it easier for women to challenge unfair pay, and invested in programs that help women enter high-paying careers. We fought to improve student grants and loans to ensure a college education is within the reach of every woman, and we established the White House Task Force to Protect Students from Sexual Assault because no matter where women pursue a brighter future, they have the right to do so without fear.

From classrooms to boardrooms, in cities and towns across America, and in the ranks of our Armed Forces, women are succeeding like never before. Their contributions are growing our economy and advancing our Nation. But despite these gains, the dreams of too many mothers and daughters continue to be deferred and denied. There is still more work to do and more doors of opportunity to open. When women receive unequal pay or are denied family leave and workplace flexibility, it makes life harder for our mothers and daughters, and it hurts the loved ones they support. These outdated policies and old ways of thinking deprive us of our Nation's full talents and potential. That is why this June we held the first-ever White House Summit on Working Families to develop a comprehensive agenda that ensures hard working Americans do not have to choose between being productive employees and responsible family members. We know that when women and girls are free to pursue their own measure of happiness in all aspects of their lives, they strengthen our families, enrich our communities, and better our country. We know that when women succeed, America succeeds.

In the 21st century, a mother should be able to raise her daughter and be her role model—showing her that with hard work, there are no limits to what she can accomplish. On Women's Equality Day, we continue the righteous work of building a society where women thrive, where every door is open to them, and their every dream can be realized.

NOW, THEREFORE, I, BARACK OBAMA, President of the United States of America, by virtue of the authority vested in me by the Constitution and the laws of the United States, do hereby proclaim August 26, 2014, as Women's Equality Day. I call upon the people of the United States to celebrate the achievements of women and promote gender equality in our country.

IN WITNESS WHEREOF, I have hereunto set my hand this twenty-fifth day of August, in the year of our Lord two thousand fourteen, and of the Independence of the United States of America the two hundred and thirty-ninth.

[FR Doc. 2014-20875

Filed 8-28-14; 11:15 am]

Billing code 3295-F4